DEPARTMENT OF HOMELAND SECURITY

Coast Guard

33 CFR Part 117

[Docket No. USCG-2009-1053]

Drawbridge Operation Regulation; Inner Harbor Navigational Canal, New Orleans, LA

AGENCY: Coast Guard, DHS.

ACTION: Notice of temporary deviation from regulations.

SUMMARY: The Commander, Eighth Coast Guard District, has issued a temporary deviation from the regulation governing the operation of the Danziger lift span bridge across the Inner Harbor Navigational Canal, mile 3.1, at New Orleans, LA. The deviation is necessary to remove and install the roller guide assemblies on the bridge. This deviation allows the bridge to remain closed at two different points of time during the bridge repairs project.

DATES: This deviation is effective from 7 a.m. on January 16, 2010 through 7 p.m. on January 30, 2010.

ADDRESSES: Documents mentioned in this preamble as being available in the docket are part of docket USCG-2009-1053 and are available online by going to http://www.regulations.gov, inserting USCG-2009-1053 in the “Keyword” box and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Lindsey Middleton, Bridge Administration Branch; telephone 504-671-2128, e-mail Lindsey.R.Middleton@uscg.mil. If you have questions on viewing the docket, call Renee V. Wright, Program Manager, Docket Operations, telephone 202-366-9826.

SUPPLEMENTARY INFORMATION: The Coastal Bridge Company, contracted by Louisiana Department of Transportation and Development, has requested a bridge closure for the Danziger Lift Span Bridge on Route US 90 crossing the Inner Harbor Navigational Canal, mile 3.1, in New Orleans, LA. The vertical clearance of the bridge in the closed-to-navigation position is 50 feet above mean high water and 55 feet above mean low water. Currently, according to 33 CFR 117.458(b), the draw of the US 90 (Danziger) bridge, mile 3.1, shall open on signal; except that, from 8 p.m. to 7 a.m. the draw shall open on signal if at least four hours notice is given, and the draw need not be opened from 7 a.m. to 8:30 a.m. and 5 p.m. to 6:30 p.m. Monday through Friday. This deviation allows the draw span of the bridge to remain closed-to-navigation for 12 consecutive hours between 7 a.m. and 7 p.m. on intermittent days from January 16, 2009 through January 30, 2009. Uncontrollable variables such as inclement weather make it difficult to predict the exact dates that work can be conducted. Thus, the exact dates for the closures cannot be firmly scheduled. Notices will be published in the Eighth Coast Guard District Local Notice to Mariners and will be broadcast via the Coast Guard Broadcast Notice to Mariners System as soon as information pertaining to the exact closure dates becomes available. During the deviation period seven new aerial cables between the two bridge towers will be installed, the wiring for the roadway and navigation lighting will be replaced, and the guide rollers and span locks will be replaced. The closure periods are necessary for the guide rollers and span locks to be replaced. During the non-closure times of the deviation period the bridge will remain in the open position for vessel traffic. Navigation on the waterway consists mainly of tugs with tows. As a result of coordination between the Coast Guard and the waterway users, it has been determined that this closure will not have a significant effect on these vessels. The Coast Guard will inform these users through the Local Notice to Mariners. Vessels will be allowed to pass underneath the bridge in the closed-to-navigation position. There are alternate routes available to vessel traffic. The bridge will not be able to open for emergencies.

In accordance with 33 CFR 117.35(e), the drawbridge must return to its regular operating schedule immediately at the end of the designated time period. This deviation from the operating regulations is authorized under 33 CFR 117.35.

Dated: December 14, 2009.
David M. Frank,
Bridge Administrator.

[FR Doc. E9-30931 Filed 12-29-09; 8:45 am]

BILLING CODE 9110-04-P